SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: March 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(e) and (f) for the time period specified above.

Approvals by Rule—Issued Under 18 CFR 806.22(e)

1. Country Club of York; ABR-202503002; Spring Garden Township, York County, Pa.; Consumptive Use of Up to 0.4500 mgd; Approval Date: March 21, 2025.

Approvals by Rule—Issued Under 18 CFR 806.22(f)

1. RENEWAL—Coterra Energy Inc.; Pad ID: ReynenJ P1; ABR-201412002.R2; Harford Township, Susquehanna County, Pa.; Consumptive Use of Up to 5.0000 mgd; Approval Date: March 18, 2025.

2. RENEWAL—Expand Operating LLC; Pad ID: NR-20-COLWELL-PAD; ABR-201407010.R2; Oakland Township, Susquehanna County, Pa.; Consumptive Use of Up to 7.5000 mgd; Approval Date: March 18, 2025.

3. RENEWAL—LPR Energy, LLC ; Pad ID: Lytle Unit Drilling Pad #1H; ABR-20100104.R3; Lawrence Township, Clearfield County, Pa.; Consumptive Use of Up to 5.0000 mgd; Approval Date: March 18, 2025.

4. RENEWAL—Repsol Oil & Gas USA, LLC; Pad ID: Bowers 408; ABR-20090919.R3; Jackson Township, Tioga County, Pa.; Consumptive Use of Up to 6.0000 mgd; Approval Date: March 18, 2025.

5. RENEWAL—Repsol Oil & Gas USA, LLC; Pad ID: CASTLE (01 047) J; ABR-20100128.R3; Armenia Township, Bradford County, Pa.; Consumptive Use of Up to 6.0000 mgd; Approval Date: March 18, 2025.

6. RENEWAL—Repsol Oil & Gas USA, LLC; Pad ID: Castle 113D; ABR-20100123.R3; Canton Township, Bradford County, Pa.; Consumptive Use of Up to 6.0000 mgd; Approval Date: March 18, 2025.

7. RENEWAL—Repsol Oil & Gas USA, LLC; Pad ID: HOOVER (01 017) G; ABR-20100108.R3; Canton Township, Bradford County, Pa.; Consumptive Use of Up to 6.0000 mgd; Approval Date: March 18, 2025.

8. RENEWAL—Repsol Oil & Gas USA, LLC; Pad ID: Miller 116D; ABR-20100124.R3; Union Township, Tioga County, Pa.; Consumptive Use of Up to 6.0000 mgd; Approval Date: March 18, 2025.

9. RENEWAL—Repsol Oil & Gas USA, LLC; Pad ID: THOMAS (01 001) FT; ABR-20100112.R3; Troy Township, Bradford County, Pa.; Consumptive Use of Up to 6.0000 mgd; Approval Date: March 18, 2025.

10. RENEWAL—Repsol Oil & Gas USA, LLC; Pad ID: THOMAS (01 002) FT; ABR-20100113.R3; Troy Township, Bradford County, Pa.; Consumptive Use of Up to 6.0000 mgd; Approval Date: March 18, 2025.

11. RENEWAL—Repsol Oil & Gas USA, LLC; Pad ID: TWL ASSOC (01 016); ABR-20100129.R3; Armenia Township, Bradford County, Pa.; Consumptive Use of Up to 6.0000 mgd; Approval Date: March 18, 2025.

12. RENEWAL—Repsol Oil & Gas USA, LLC; Pad ID: VANBLARCOM (03 004) R; ABR-20100103.R3; Columbia Township, Bradford County, Pa.; Consumptive Use of Up to 6.0000 mgd; Approval Date: March 18, 2025.

13. RENEWAL—Seneca Resources Company, LLC; Pad ID: Chapman 237; ABR-20091206.R3; Sullivan Township, Tioga County, Pa.; Consumptive Use of Up to 4.0000 mgd; Approval Date: March 18, 2025.

14. RENEWAL—Seneca Resources Company, LLC; Pad ID: Willard 419-1H; ABR-20100105.R3; Delmar Township, Tioga County, Pa.; Consumptive Use of Up to 4.0000 mgd; Approval Date: March 18, 2025.

15. Blackhill Energy LLC; Pad ID: Black Jack Sparrow; ABR-202503001; Springfield Township, Bradford County, Pa.; Consumptive Use of Up to 6.5000 mgd; Approval Date: March 21, 2025.

16. MODIFICATION—Expand Operating LLC; Pad ID: Coyle Well Pad; ABR-201205006.R2.1; Liberty Township, Susquehanna County, Pa.; Consumptive Use of Up to 7.5000 mgd; Approval Date: March 21, 2025.

17. MODIFICATION—Expand Operating LLC; Pad ID: NR-14-BRANT-PAD; ABR-201312001.R2.1; Great Bend Township, Susquehanna County, Pa.; Consumptive Use of Up to 7.5000 mgd; Approval Date: March 21, 2025.

18. RENEWAL—BKV Operating, LLC; Pad ID: Procter & Gamble Mehoopany Plant 3V; ABR-20100126.R3; Washington Township, Wyoming County, Pa.; Consumptive Use of Up to 5.0000 mgd; Approval Date: March 27, 2025.

19. RENEWAL—Expand Operating LLC; Pad ID: Bartz; ABR-202003002.R1; Monroe Township, Bradford County, Pa.; Consumptive Use of Up to 7.5000 mgd; Approval Date: March 27, 2025.

20. RENEWAL—Expand Operating LLC; Pad ID: Grippo; ABR-20091212.R3; Terry Township, Bradford County, Pa.; Consumptive Use of Up to 7.5000 mgd; Approval Date: March 27, 2025.

21. RENEWAL—Expand Operating LLC; Pad ID: Popivchak; ABR-20100147.R3; Burlington Township, Bradford County, Pa.; Consumptive Use of Up to 7.5000 mgd; Approval Date: March 27, 2025.

22. RENEWAL—Expand Operating LLC; Pad ID: Roger; ABR-20091209.R3; Rush Township, Susquehanna County, Pa.; Consumptive Use of Up to 7.5000 mgd; Approval Date: March 27, 2025.

23. RENEWAL—Expand Operating LLC; Pad ID: Stevens; ABR-20100151.R3; Standing Stone Township, Bradford County, Pa.; Consumptive Use of Up to 7.5000 mgd; Approval Date: March 27, 2025.

24. RENEWAL—Expand Operating LLC; Pad ID: Teel Unit Drilling Pad #2H; ABR-20091204.R3; Springville Township, Susquehanna County, Pa.; Consumptive Use of Up to 7.5000 mgd; Approval Date: March 27, 2025.

25. RENEWAL—Expand Operating LLC; Pad ID: Teel Unit Drilling Pad #3H; ABR-20091205.R3; Springville Township, Susquehanna County, Pa.; Consumptive Use of Up to 7.5000 mgd; Approval Date: March 27, 2025.

26. RENEWAL—Expand Operating LLC; Pad ID: Walters Unit #1H; ABR-20100135.R3; West Burlington Township, Bradford County, Pa.; Consumptive Use of Up to 7.5000 mgd; Approval Date: March 27, 2025.

27. RENEWAL—Repsol Oil & Gas USA, LLC; Pad ID: EICK (03 013) W; ABR-20091105.R3; Columbia Township, Bradford County, Pa.; Consumptive Use of Up to 6.0000 mgd; Approval Date: March 27, 2025.

28. RENEWAL—Repsol Oil & Gas USA, LLC; Pad ID: FOUST (01 003) J; ABR-20100109.R3; Granville Township, Bradford County, Pa.; Consumptive Use of Up to 6.0000 mgd; Approval Date: March 27, 2025.

29. RENEWAL—S.T.L. Resources, LLC; Pad ID: Kjelgaard Pad; ABR-20090902.R3; Gaines Township, Tioga County, Pa.; Consumptive Use of Up to 4.0000 mgd; Approval Date: March 27, 2025.

30. RENEWAL—Seneca Resources Company, LLC; Pad ID: Brown 425; ABR-20091106.R3; Delmar and Shippen Townships, Tioga County, Pa.; Consumptive Use of Up to 4.0000 mgd; Approval Date: March 27, 2025.

31. RENEWAL—Seneca Resources Company, LLC; Pad ID: Butler 127; ABR-20100114.R3; Delmar Township, Tioga County, Pa.; Consumptive Use of Up to 4.0000 mgd; Approval Date: March 27, 2025.

32. RENEWAL—Seneca Resources Company, LLC; Pad ID: Hackman 143; ABR-20100118.R3; Delmar Township, Tioga County, Pa.; Consumptive Use of Up to 4.0000 mgd; Approval Date: March 27, 2025.

33. RENEWAL—Seneca Resources Company, LLC; Pad ID: Jenkins 523; ABR-20091215.R3; Rutland Township, Tioga County, Pa.; Consumptive Use of Up to 4.0000 mgd; Approval Date: March 27, 2025.

34. RENEWAL—Seneca Resources Company, LLC; Pad ID: Pannebaker 515; ABR-20091216.R3; Rutland Township, Tioga County, Pa.; Consumptive Use of Up to 4.0000 mgd; Approval Date: March 27, 2025.

35. RENEWAL—Seneca Resources Company, LLC; Pad ID: Phillips 504; ABR-20091018.R3; Rutland Township, Tioga County, Pa.; Consumptive Use of Up to 4.0000 mgd; Approval Date: March 27, 2025.

36. RENEWAL—Seneca Resources Company, LLC; Pad ID: Stehmer 420; ABR-20091101.R3; Delmar Township, Tioga County, Pa.; Consumptive Use of Up to 4.0000 mgd; Approval Date: March 27, 2025.

37. RENEWAL—Seneca Resources Company, LLC; Pad ID: West 299; ABR-20091111.R3; Richmond Township, Tioga County, Pa.; Consumptive Use of Up to 4.0000 mgd; Approval Date: March 27, 2025.

38. RENEWAL—BKV Operating, LLC; Pad ID: Procter & Gamble Mehoopany Plant 4V; ABR-20100125.R3; Washington Township, Wyoming County, Pa.; Consumptive Use of Up to 5.0000 mgd; Approval Date: March 30, 2025.

39. RENEWAL—BKV Operating, LLC; Pad ID: Procter & Gamble Mehoopany Plant 5V; ABR-20100127.R3; Washington Township, Wyoming County, Pa.; Consumptive Use of Up to 5.0000 mgd; Approval Date: March 30, 2025.

40. RENEWAL—Expand Operating LLC; Pad ID: Jads; ABR-202003003.R1; Monroe Township, Bradford County, Pa.; Consumptive Use of Up to 7.5000 mgd; Approval Date: March 30, 2025.

41. RENEWAL—LPR Energy, LLC ; Pad ID: Hodge Unit Drilling Pad #1; ABR-20091201.R3; Juniata Township, Blair County, Pa.; Consumptive Use of Up to 5.0000 mgd; Approval Date: March 30, 2025.

42. RENEWAL—Range Resources—Appalachia, LLC; Pad ID: Cornwall 6H-8H; ABR-201407017.R2; Lewis and Cogan House Townships, Lycoming County, Pa.; Consumptive Use of Up to 4.0000 mgd; Approval Date: March 30, 2025.

43. RENEWAL—Blackhill Energy LLC; Pad ID: LEE 1H; ABR-20091122.R3; Springfield Township, Bradford County, Pa.; Consumptive Use of Up to 1.9990 mgd; Approval Date: March 31, 2025.

44. RENEWAL—Blackhill Energy LLC; Pad ID: LEE 3H; ABR-20091124.R3; Springfield Township, Bradford County, Pa.; Consumptive Use of Up to 1.9990 mgd; Approval Date: March 31, 2025.

45. RENEWAL—Coterra Energy Inc.; Pad ID: Baker P1; ABR-20100149.R3; Dimock Township, Susquehanna County, Pa.; Consumptive Use of Up to 5.0000 mgd; Approval Date: March 31, 2025.

46. RENEWAL—Expand Operating LLC; Pad ID: Bacon Drilling Pad #1; ABR-20100202.R3; Burlington Township, Bradford County, Pa.; Consumptive Use of Up to 7.5000 mgd; Approval Date: March 31, 2025.

47. RENEWAL—Expand Operating LLC; Pad ID: Elliott Drilling Pad #1H; ABR-20100136.R3; Monroe Township, Bradford County, Pa.; Consumptive Use of Up to 7.5000 mgd; Approval Date: March 31, 2025.

48. RENEWAL—Expand Operating LLC; Pad ID: Harper; ABR-20100142.R3; Terry Township, Bradford County, Pa.; Consumptive Use of Up to 7.5000 mgd; Approval Date: March 31, 2025.

49. RENEWAL—Expand Operating LLC; Pad ID: Knosky Pad Site; ABR-20090915.R3; Middletown and Rush Townships, Susquehanna County, Pa.; Consumptive Use of Up to 7.5000 mgd; Approval Date: March 31, 2025.

50. RENEWAL—Expand Operating LLC; Pad ID: Meas; ABR-20100134.R3; Albany Township, Bradford County, Pa.; Consumptive Use of Up to 7.5000 mgd; Approval Date: March 31, 2025.

51. RENEWAL—Expand Operating LLC; Pad ID: Mowry2; ABR-20100141.R3; Tuscarora Township, Bradford County, Pa.; Consumptive Use of Up to 7.5000 mgd; Approval Date: March 31, 2025.

52. RENEWAL—Expand Operating LLC; Pad ID: NR-16 HALEY PAD; ABR-201412006.R2; Great Bend Township, Susquehanna County, Pa.; Consumptive Use of Up to 7.5000 mgd; Approval Date: March 31, 2025.

53. RENEWAL—Expand Operating LLC; Pad ID: NR-18 Oak Ridge Pad; ABR-201501002.R2; Oakland Township, Susquehanna County, Pa.; Consumptive Use of Up to 7.5000 mgd; Approval Date: March 31, 2025.

54. RENEWAL—Expand Operating LLC; Pad ID: NR-23-FOUR BUCKS-PAD; ABR-201408005.R2; Great Bend and Oakland Townships, Susquehanna County, Pa.; Consumptive Use of Up to 7.5000 mgd; Approval Date: March 31, 2025.

55. RENEWAL—Expand Operating LLC; Pad ID: Stoorza; ABR-20091208.R3; Terry Township, Bradford County, Pa.; Consumptive Use of Up to 7.5000 mgd; Approval Date: March 31, 2025.

56. RENEWAL—Expand Operating LLC; Pad ID: Storms; ABR-20100131.R3; Tuscarora Township, Bradford County, Pa.; Consumptive Use of Up to 7.5000 mgd; Approval Date: March 31, 2025.

57. RENEWAL—Repsol Oil & Gas USA, LLC; Pad ID: Busia 457; ABR-20091016.R3; Jackson Township, Tioga County, Pa.; Consumptive Use of Up to 6.0000 mgd; Approval Date: March 31, 2025.

58. RENEWAL—Repsol Oil & Gas USA, LLC; Pad ID: LUTZ (01 007) T; ABR-20100111.R3; Troy Township, Bradford County, Pa.; Consumptive Use of Up to 6.0000 mgd; Approval Date: March 31, 2025.

Authority: Public Law 91-575, 84 Stat. 1509 et seq., 18 CFR parts 806 and 808.

Dated: April 7, 2025.
Jason E. Oyler,
General Counsel and Secretary to the Commission.

[FR Doc. 2025-06130 Filed 4-9-25; 8:45 am]

BILLING CODE 7040-01-P